DEPARTMENT OF ENERGY

Federal Energy Regulatory Commission

Combined Notice of Filings #1

Take notice that the Commission received the following electric rate filings:

Docket Numbers: ER16-2412-002.

Applicants: Luning Energy LLC.

Description: Supplement to December 16, 2016 Triennial Report for Northwest region of Luning Energy LLC.

Filed Date: 5/31/17.

Accession Number: 20170531-5349.

Comments Due: 5 p.m. ET 6/14/17.

Docket Numbers: ER17-1727-000.

Applicants: International Transmission Company.

Description: § 205(d) Rate Filing: CIAC Agreement with DTE Electric Company to be effective 7/31/2017.

Filed Date: 5/31/17.

Accession Number: 20170531-5270.

Comments Due: 5 p.m. ET 6/21/17.

Docket Numbers: ER17-1728-000.

Applicants: Midcontinent Independent System Operator, Inc.

Description: § 205(d) Rate Filing: 2017-05-31_Attachment X Clean-up related to Queue Reform to be effective 8/1/2017.

Filed Date: 5/31/17.

Accession Number: 20170531-5273.

Comments Due: 5 p.m. ET 6/21/17.

Docket Numbers: ER17-1729-000.

Applicants: Pacific Gas and Electric Company.

Description: § 205(d) Rate Filing: Amendment to City and County of San Francisco Hunters Point #1 WDT (SA 36) to be effective 8/1/2017.

Filed Date: 6/1/17.

Accession Number: 20170601-5006.

Comments Due: 5 p.m. ET 6/22/17.

Docket Numbers: ER17-1730-000.

Applicants: Entergy Arkansas, Inc., Entergy New Orleans, Inc., Entergy Louisiana, LLC.

Description: § 205(d) Rate Filing: EAI-ELL-ENO Union Power Reactive to be effective 8/1/2017.

Filed Date: 6/1/17.

Accession Number: 20170601-5009.

Comments Due: 5 p.m. ET 6/22/17.

Docket Numbers: ER17-1731-000.

Applicants: Entergy Texas, Inc., Entergy Louisiana, LLC.

Description: § 205(d) Rate Filing: ELL-ETI Big Cajun II U3 Reactive to be effective 8/1/2017.

Filed Date: 6/1/17.

Accession Number: 20170601-5010.

Comments Due: 5 p.m. ET 6/22/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 1, 2017.
Kimberly D. Bose,
Secretary.

[FR Doc. 2017-11768 Filed 6-6-17; 8:45 am]

BILLING CODE 6717-01-P